FEDERAL COMMUNICATIONS COMMISSION

47 CFR Part 73

[DA 00-1570, MM Docket No. 00-128, RM-9912]

Radio Broadcasting Services; Pilot Rock, OR

AGENCY: Federal Communications Commission.

ACTION: Proposed rule.

SUMMARY: The Commission requests comments on a petition filed by Aaron Bruton to allot Channel 221C3 to Pilot Rock, OR, as the community's first local aural service. Channel 221C3 can be allotted to Pilot Rock in compliance with the Commission's minimum distance separation requirements with a site restriction of 14.5 kilometers (9 miles) west, at coordinates 45-30-00 NL; 119-00-56 WL, to avoid a short-spacing to Station KWVR, Channel 221A, Enterprise, Oregon.

DATES: Comments must be filed on or before September 5, 2000, and reply comments on or before September 20, 2000.

ADDRESSES: Federal Communications Commission, 445 12th Street, S.W., Room TW-A325, Washington, DC 20554. In addition to filing comments with the FCC, interested parties should serve the petitioner, or its counsel or consultant, as follows: Aaron Bruton, 1832 Fern, Walla Walla, WA 99362 (Petitioner).

FOR FURTHER INFORMATION CONTACT: Leslie K. Shapiro, Mass Media Bureau, (202) 418-2180.

SUPPLEMENTARY INFORMATION: This is a synopsis of the Commission's Notice of Proposed Rule Making, MM Docket No. 00-128, adopted July 5, 2000, and released July 14, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-18755 Filed 7-24-00; 8:45 am]

BILLING CODE 6712-01-P